DEPARTMENT OF THE INTERIOR

Bureau of Land Management

[PO #4820000251; Order #02412-014-004-047181.0]

Intent To Prepare an Environmental Impact Statement for the Oil and Gas Leasing Decisions in Seven States From February 2015 to December 2020; Rescission

AGENCY: Bureau of Land Management, Interior.

ACTION: Notice of rescission.

SUMMARY: The Bureau of Land Management (BLM) is rescinding its notice to prepare an environmental impact statement (EIS) for the oil and gas leasing decisions in seven States from February 2015 to December 2020. The BLM announced its intent to prepare the EIS in a notice that published in the Federal Register on January 16, 2025.

FOR FURTHER INFORMATION CONTACT: Janna Simonsen, Project Lead, or John Ajak, Division Chief, via email at bllm_hq_litigated leases_EIS@blm.gov, or via telephone at 505-954-2000; or by mail at Bureau of Land Management, 301 Dinosaur Trail, Santa Fe, NM 87508.

Individuals in the United States who are deaf, deafblind, hard of hearing, or have a speech disability may dial 711 (TTY, TDD, or TeleBraille) to access telecommunications relay services for contacting the BLM. Individuals outside the United States should use the relay services offered within their country to make international calls to the point-of-contact in the United States.

SUPPLEMENTARY INFORMATION: The notice of intent to prepare an EIS published in the Federal Register on January 16, 2025 (90 FR 4779). The recission of the notice is responsive to and consistent with Executive Order 14154, “Unleashing American Energy” (January 20, 2025) and Secretary's Order 3418, “Unleashing American Energy” (February 3, 2025).

(Authority: 30 U.S.C. 181 and 226; 43 U.S.C. 1701 et seq.; 42 U.S.C. 4332; and 43 CFR part 3100 (2024))

Mitchell Leverette,
Acting Assistant Director, Energy, Minerals, and Realty Management.

[FR Doc. 2025-06241 Filed 4-10-25; 8:45 am]

BILLING CODE 4331-27-P